LEGAL SERVICES CORPORATION

Sunshine Act Meeting of the Board of Directors and Five Board Committees

Amended Notice

Changes to the Meeting Time

NOTICE: The Legal Services Corporation (LSC) is announcing an amendment to the notice of the meeting of the Board of Directors and five Board Committees. Specifically, the following two additional items have been added to the agenda of the Operations & Regulations Committee (“Committee”). The Committee's agenda will be announced in Volume 75 of the Federal Register. There are no other changes to the original notice.

ITEMS ADDED TO COMMITTEE'S AGENDA:

• Briefing on management's plans for reviewing and improving LSC performance measures, including identification of possible impediments to development of numerical criteria for the measurement of LSC performance

• Briefing on how the Corporation receives and uses timekeeping data related to service delivery collected from grantees

DATE AND TIME: The Legal Services Corporation Board of Directors will meet on July 30-31, 2010. On Friday July 30, the meeting will commence at 3:15 p.m., Central Time. On July 31, the first meeting will commence at 8:30 a.m., Central Time. On each of these two days, each meeting other than the first meeting of the day will commence promptly upon adjournment of the immediately preceding meeting.

LOCATION: The Hyatt Regency Hotel, 333 West Kilbourn Avenue, Milwaukee, Wisconsin.

PUBLIC OBSERVATION: Unless otherwise noticed, all meetings of the LSC Board of Directors are open to public observation. Members of the public that are unable to attend but wish to listen to a public proceeding may do so by following the telephone call-in directions given below. You are asked to keep your telephone muted to eliminate background noises. From time to time the presiding Chair may solicit comments from the public.

CALL-IN DIRECTIONS FOR OPEN SESSIONS:

• Call toll-free number: 1-(866) 451-4981;

• When prompted, enter the following numeric pass code: 5907707348;

• When connected to the call, please “Mute” your telephone immediately.

Meeting Schedule
| Time ¹
Friday, July 30, 2010:
1. Promotion & Provision for the Delivery of Legal Services Committee (“Promotions & Provisions Committee”) | 3:15 p.m.
2. Governance & Performance Review Committee
3. Operations & Regulations Committee
Saturday, July 31, 2010:
4. Finance Committee | 8:30 a.m.
5. Audit Committee
6. Board of Directors

STATUS OF MEETING: Open, except as noted below.

¹ Please note that all times in this notice are in the Central Time zone.

• Board of Directors—Open, except that a portion of the meeting of the Board of Directors may be closed to the public pursuant to a vote of the Board of Directors who will consider and perhaps act on the General Counsel's report on potential and pending litigation involving LSC, consider and may act on a report from the Operations & Regulations Committee regarding an employee benefits matter, and hear briefings by LSC's President and Inspector General.²

² Any portion of the closed session consisting solely of staff briefings does not fall within the Sunshine Act's definition of the term “meeting” and, therefore, the requirements of the Sunshine Act do not apply to such portion of the closed session. 5 U.S.C. 552b(a)(2) and (b). See also 45 CFR 1622.2 & 1622.3.

A verbatim written transcript will be made of the closed session of the Board meeting. However, the transcript of any portions of the closed session falling within the relevant provisions of the Government in the Sunshine Act, 5 U.S.C. 552b(c)(2) and (9)(B), and the corresponding provisions of the Legal Services Corporation's implementing regulation, 45 CFR 1622.5(a) and (g), will not be available for public inspection. A copy of the General Counsel's Certification that in his opinion the closing is authorized by law will be available upon request.

• Governance & Performance Review Committee—Open, except that a portion of the meeting of the Governance & Performance Review Committee may be closed to the public pursuant to a vote of the Board of Directors so the Committee can act and consider a records retention matter.

A verbatim written transcript will be made of the closed session of the Committee meeting. However, the transcript of any portions of the closed session falling within the relevant provisions of the Government in the Sunshine Act, 5 U.S.C. 552b(c)(2), and the corresponding provisions of the Legal Services Corporation's implementing regulation, 45 CFR 1622.5(a) will not be available for public inspection. A copy of the General Counsel's Certification that in his opinion the closing is authorized by law will be available upon request.

• Operations & Regulations Committee—Open, except that a portion of the meeting of the Operations & Regulations Committee may be closed to the public pursuant to a vote of the Board of Directors so the Committee can act and consider an employee benefits matter. A verbatim written transcript will be made of the closed session of the Committee meeting. However, the transcript of any portions of the closed session falling within the relevant provisions of the Government in the Sunshine Act, 5 U.S.C. 552b(c)(2), and the corresponding provisions of the Legal Services Corporation's implementing regulation, 45 CFR 1622.5(a) will not be available for public inspection. A copy of the General Counsel's Certification that in his opinion the closing is authorized by law will be available upon request.

MATTERS TO BE CONSIDERED:

Friday, July 30, 2010

Promotion and Provision for the Delivery of Legal Services Committee

Agenda

1. Approval of agenda

2. Approval of Minutes of the Committee's meeting of April 16, 2010

3. Consider and act on proposed revised Committee Charter

Staff report—Karen Sarjeant, Vice President for Program and Compliance

4. Public comment

5. Consider and act on other business

6. Consider and act on adjournment of meeting

Governance and Performance Review Committee

Agenda

Open Session

1. Approval of agenda

2. Approval of minutes of the Committee's meeting of April 17, 2010

3. Staff report on Virtual Board Manual

4. Consider and act on Committee Self-Evaluation Forms

5. Discussion of LSC research agenda, goals, methods, and areas of concentration

6. Issues from the OIG OLA Report

7. Consider and act on other business

8. Public Comment

Closed Session

9. Consider and act on records retention matter

10. Consider and act on motion to adjourn meeting

Operations & Regulations Committee

Amended Agenda

Open Session

1. Approval of agenda

2. Approval of minutes of the Committee's meeting of April 17, 2010

3. Approval of minutes of the Committee's joint meeting of June 15, 2010 with the Audit Committee

4. Consider and act on potential initiation of rulemaking to amend 45 CFR part 1622 to remove from its requirements the Board's Search and Development Committees and the Board's Governance & Performance Review Committee when it is meeting to consider performance evaluations of the President and the Inspector General

i. Presentation by Mattie Cohan, Senior Assistant General Counsel

ii. Comment by Laurie Tarantowicz, Assistant Inspector General and Legal Counsel

iii. Public Comment

5. Consider and act on the proposed 2011 Grant Assurances

i. Presentation by Karen Sarjeant, Vice President for Programs and Compliance

ii. Public Comment

6. Briefing on management's plans for reviewing and improving LSC performance measures, including identification of possible impediments to development of numerical criteria for the measurement of LSC performance

7. Briefing on how the Corporation receives and uses timekeeping data related to service delivery collected from grantee

8. Public comment

9. Consider and act on other business

Closed Session

10. Consider and act on an employee benefits matter

11. Consider and act on adjournment of meeting

Saturday, July 31, 2010

Finance Committee

Agenda

1. Approval of agenda

2. Approval of the minutes of the Committee's meeting of April 17, 2010

3. Consider and Act on potential advisory committee member for the Finance Committee

4. Presentation on LSC's Financial Reports for the first eight months of FY 2010

• Presentation by David Richardson, Treasurer/Comptroller

5. Consider and act on revisions to the Consolidated Operating Budget for FY 2010 including internal budgetary adjustments and recommend Resolution 2010-XXX to the full Board

• Presentation by David Richardson, Treasurer/Comptroller

6. Consider and act on proposed 2010 pay increase

• Presentation by Victor Fortuno, President

• Comments by David Richardson, Treasurer/Comptroller

• Comments by Jeffrey Schanz, Inspector General

7. Consider and Act on the Temporary Operating Budget for FY 2011 and recommend Resolution 2010-XXX to the full Board for action

• Presentation by David Richardson, Treasurer/Comptroller

8. Discussion of FY 2012 Budget Request considerations

9. Consider and act on amendment to LSC's 403(b) plan

• Presentation by Alice Dickerson, Director of Human Resources

• Comments by Mark Freedman, Office of Legal Affairs

10. Staff report on the Loan Repayment Assistance Program (“LRAP”)

• Bristow Hardin, Program Analyst, Office of Program Performance

11. Public comment

12. Consider and act on other business

13. Consider and act on adjournment of meeting

Audit Committee

Agenda

1. Approval of agenda

2. Approval of minutes of the Committee's April 17, 2010 meeting

3. Approval of minutes of the Committee's June 15, 2010 joint meeting with the Operations and Regulations Committee.

4. Report on 403(b) plan performance and annual audit and consider and act on changes to LSC's 403(b) Plan

5. Alice Dickerson, Director of Human Resources

6. Mark Freedman, Office of Legal Affairs

7. Report on TIG grants management

8. Janet LaBella, Director, Office of Program Performance

9. Glenn Rawdon, TIG program counsel

10. David Richardson, Treasurer and Comptroller

11. Report on timely issuance of OCE and OPP program visit reports

12. Karen Sarjeant, Vice President for Programs and Compliance

13. Consider and act on Resolution # 2010-XXX regarding future amendments to the LSC Accounting Manual

14. Consider and act on complaint procedure for audit committee

15. Review of internal controls associated with grant awards

16. Karen Sarjeant, Vice President for Programs and Compliance

17. Janet LaBella, Director, Office of Program Performance

18. David Richardson, Treasurer and Comptroller

19. Briefing by Inspector General

20. Jeffrey Schanz, Inspector General

21. Public comment

22. Consider and act on other business

23. Consider and act on adjournment of meeting

Board of Directors

Agenda

Open Session

1. Approval of agenda

2. Approval of Minutes of the Board's Open Session meeting of April 17, 2010

3. Approval of Minutes of the Board's Open Session Telephonic meeting of May 19, 2010

4. Approval of Minutes of the Board's Open Session Telephonic meeting of June 15, 2010

5. Consider and act on report from Thomas Smegal, Chairman, Board of Directors of Friends of the Legal Services Corporation, regarding ownership of 3333 K Street, NW., Washington, DC, the property housing LSC's offices

6. Chairman's Report

7. Members' Reports

8. President's Report

9. Inspector General's Report

10. Consider and act on the report of the Search Committee for LSC President

11. Consider and act on the report of the Promotion & Provision for the Delivery of Legal Services Committee

12. Consider and act on the report of the Finance Committee

13. Consider and act on the report of the Audit Committee

14. Consider and act on the report of the Operations & Regulations Committee

15. Consider and act on the report of the Governance & Performance Review Committee

16. Consider and act on Resolution 2010-XXX recognizing the late Edna Fairbanks-Williams and her contributions to the civil legal services community.

17. Consider and act on whether to establish a Development Committee and related proposed Charter, Resolution 2010-XXX

18. Staff Report on Strategic Directions performance measures for 2006-2010

19. Consider and act on designation of new LSC Ethics Officer

20. Staff Report on the provision of civil legal services to veterans

21. Consider and act on Meeting Schedule for calendar year 2011

22. Public comment

23. Consider and act on other business

24. Consider and act on whether to authorize an executive session of the Board to address items listed below under Closed Session

Closed Session

25. Approval of minutes of the Board's April 17, 2010 Closed Session meeting

26. Consider and act on General Counsel's report on potential and pending litigation involving LSC

27. Consider and act on report of the Governance & Performance Review Committee regarding a records retention matter

28. Consider and act on report of the Operations & Regulations Committee regarding an employee benefits matter

29. IG briefing of the Board

30. Consider and act on motion to adjourn meeting

CONTACT PERSON FOR INFORMATION: Katherine Ward, Executive Assistant to the Vice President & General Counsel, at (202) 295-1500. Questions may be sent by electronic mail to FR_NOTICE_QUESTIONS@lsc.gov.

SPECIAL NEEDS: Upon request, meeting notices will be made available in alternate formats to accommodate visual and hearing impairments. Individuals who have a disability and need an accommodation to attend the meeting may notify Katherine Ward, at (202) 295-1500 or FR_NOTICE_QUESTIONS@lsc.gov.

Dated: July 25, 2010.
Patricia D. Batie,
Corporate Secretary.

[FR Doc. 2010-18716 Filed 7-27-10; 11:15 am]

BILLING CODE 7050-01-P